DEPARTMENT OF LABOR

Employment and Training Administration

[TA-W-59,966]

ABB, Inc., Lewisburg, WV; Notice of Revised Determination of Alternative Trade Adjustment Assistance on Reconsideration

By letter dated October 10, 2006, a representative of the Maintenance Workers Local Union, No. 1182, Laborers International Union of North America (Union), requested administrative reconsideration regarding Alternative Trade Adjustment Assistance (ATAA). The certification for Trade Adjustment Assistance was signed on September 28, 2006. The Notice of determination was published in the Federal Register on October 16, 2006 (71 FR 60762).

The determination stated that a significant number of workers in the workers' firm are not 50 years of age or older.

The Union asserts that a significant number of workers in the workers' firm are 50 years of age or older and provided a list of workers and their birthdates as support documentation.

A careful review of the Union's submissions and previously submitted documents reveal that at least five percent of the workforce at the subject from is at least fifty years of age. The workers in the workers' firm possess skills that are not easily transferable. Competitive conditions within the industry are adverse.

Conclusion

After careful review of the additional facts obtained on reconsideration, I conclude that the requirements of Section 246 of the Trade Act of 1974, as amended, have been met for workers at the subject firm.

In accordance with the provisions of the Act, I make the following certification:

All workers of ABB, Inc., Lewisburg, West Virginia, who became totally or partially separated from employment on or after August 28, 2005 through September 28, 2008, are eligible to apply for adjustment assistance under Section 223 of the Trade Act of 1974, and are also eligible to apply for alternative trade adjustment assistance under Section 246 of the Trade Act of 1974.

Signed in Washington, DC, this 25th day of October 2006.
Elliott S. Kushner,
Certifying Officer, Division of Trade Adjustment Assistance.

[FR Doc. E6-18357 Filed 10-31-06; 8:45 am]

BILLING CODE 4510-30-P